DEPARTMENT OF ENERGY

Federal Energy Regulatory Commission

[Docket No. EC00-46-002, et al.]

Vermont Yankee Nuclear Power Corporation, et al.; Electric Rate and Corporate Regulation Filings

October 22, 2001.

Take notice that the following filings have been made with the Commission:

[Docket Nos. EC00-46-002, ER00-1027-000, ER00-1028-000, ER00-1029-000, and EL00-86-001]

1. Vermont Yankee Nuclear Power Corporation; Boylston Municipal Light Department, et al. v. Vermont Yankee Nuclear Power Corporation, et al.

Take notice that on October 16, 2001, Vermont Yankee Nuclear Power Corporation (Vermont Yankee) submitted for filing a Refund Report along with supporting materials. The refunds were made pursuant to the terms of a settlement agreement in the captioned proceeding.

Vermont Yankee states that copies of the Refund Report have been served on the persons listed on the official service list for this proceeding, affected customers, and to each state commission within whose jurisdiction the affected customers distribute and sell electric energy at retail.

Comment date: November 6, 2001, in accordance with Standard Paragraph E at the end of this notice.

2. Rainy River Energy Corporation—Taconite Harbor

[Docket No. EG02-9-000]

Take notice that on October 18, 2001, Rainy River Energy Corporation—Taconite Harbor (Applicant), filed with the Federal Energy Regulatory Commission an application for determination of exempt wholesale generator status pursuant to Part 365 of the Commission's regulations. Applicant is a wholly-owned indirect subsidiary of Minnesota Power.

Applicant stated that it served its application on the following: Minnesota Power, the Public Utilities Commission, Wisconsin Public Service Commission and the Securities and Exchange Commission.

Comment date: November 12, 2001, in accordance with Standard Paragraph E at the end of this notice. The Commission will limit its consideration of comments to those that concern the adequacy or accuracy of the application.

3. Elwood Expansion, LLC

[Docket No. EG02-10-000]

Take notice that on October 19, 2001, Elwood Expansion, LLC (Elwood Expansion) filed with the Federal Energy Regulatory Commission (Commission) an application for determination of exempt wholesale generator status pursuant to Part 365 of the Commission's regulations.

Elwood Expansion, a Delaware limited liability company, is owned 50% by Dominion Elwood Expansion, Inc., a Delaware corporation, and 50% by Peoples Elwood Expansion, LLC, a Delaware limited liability company. Elwood Expansion, Inc. is a wholly owned subsidiary of Dominion Energy, Inc., which in turn is a wholly owned subsidiary of Dominion Resources, Inc. Peoples Elwood Expansion, LLC is a wholly owned subsidiary of PERC Power, LLC, which in turn is a wholly owned subsidiary of Peoples Energy Resources Corp., a wholly owned subsidiary of Peoples Energy Corporation.

Elwood Expansion, LLC will be exclusively engaged in the business of owning, operating and selling electricity exclusively at wholesale from an electric generating facility located near Elwood, Illinois. The facility, which is currently in the early stages of development, is expected to consist of two approximately 500 MW gas-fired combined-cycle generating units. In addition, the Facility may include various other as yet unidentified transmission interconnection facilities that will be necessary to interconnect the Facility to the transmission system of Commonwealth Edison Company.

Comment date: November 12, 2001, in accordance with Standard Paragraph E at the end of this notice. The Commission will limit its consideration of comments to those that concern the adequacy or accuracy of the application.

4. Alliant Energy Corporate Services, Inc. Services, Inc.

[Docket No. ER01-312-003]

Take notice that on October 18, 2001, Alliant Energy Corporate Services, Inc. tendered for filing a Refund Report in response to the Commission's Letter Order dated September 12, 2001 in Docket Nos. ER01-312-000 and ER01-312-001.

A copy of this filing has been served upon all affected customers, the Illinois Commerce Commission, the Iowa Utilities Board, the Minnesota Public Utilities Commission and the Public Service Commission of Wisconsin.

Comment date: November 8, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-27079 Filed 10-26-01; 8:45 am]

BILLING CODE 6717-01-P